DEPARTMENT OF TRANSPORTATION

Pipeline and Hazardous Materials Safety Administration

Hazardous Materials: Delayed Applications

AGENCY: Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on November 4, 2015.
Donald Burger,
Chief, General Approvals and Permits.

Application No. | Applicant | Reason for delay | Estimated date of completion
Modification to Special Permits
16142-M | Nantong CIMC, Tank Equipment Co. Ltd., Jiangsu, Province | 4 | 11-20-2015
14437-M | Columbiana Boiler Company (CBCo) LLC, Columbiana, OH | 4 | 11-30-2015
14808-M | Amtrol-Alfa Metalomecanica, S.A., West Warwick, RI | 4 | 12-05-2015
New Special Permit Applications
15767-N | Union Pacific Railroad Company, Omaha, NE | 3 | 11-20-2015
16220-N | Americase, Waxahache, TX | 4 | 11-20-2015
16249-N | Optimized Energy Solutions, LLC, Durango, CO | 3 | 11-15-2015
16337-N | Volkswagen Group of America (VWGoA), Herndon, VA | 4 | 12-31-2015
16366-N | Department of Defense, Scott AFB, IL | 4 | 11-30-2015
16371-N | Volkswagen Group of America (VWGoA), Herndon, VA | 4 | 11-30-2015
16416-N | INOX India Limited, Gujarat, India | 4 | 12-31-2015
16465-N | Helimax Aviation, Inc., McClellan, CA | 4 | 11-30-2015
16461-N | Coastal Hydrotesting LLC, Baltimore, MD | 4 | 12-20-2015
16452-N | The Procter & Gamble Company, Cincinnati, OH | 4 | 11-30-2015
16469-N | ACS UE Testing LLC, Denver, CO | 4 | 12-31-2015
16463-N | Salco Products, Lemont, IL | 3 | 12-31-2015
16001-N | VELTEK Associates, Inc., Malvern, PA | 3 | 11-20-2015
Renewal Special Permits Applications
11860-R | GATX Corporation, Chicago, IL | 4 | 12-31-2015
8009-R | NK Co., Ltd., Busan City, KR | 4 | 11-30-2015

[FR Doc. 2015-29937 Filed 11-25-15; 8:45 am]

BILLING CODE 4910-60-M